SMALL BUSINESS ADMINISTRATION

13 CFR Part 108

RIN 3245-AE40

New Markets Venture Capital Program: Delay of Effective Date

AGENCY: Office of New Markets Venture Capital, Small Business Administration.

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled New Markets Venture Capital Program published in the Federal Register on January 22, 2001, 66 FR 7218. The New Markets Venture Capital Program final rule adds new regulations to implement the New Markets Venture Capital Program Act of 2000 (“the Act”). The Act authorizes SBA to issue regulations necessary to implement the program. The regulations set forth the requirements for newly-formed venture capital companies to: qualify to become New Markets Venture Capital (“NMVC”) companies; to make developmental venture capital investments in smaller enterprises located in low-income geographic areas; provide operational assistance to enterprises receiving such investments; and allow existing Specialized Small Business Investment Companies (“SSBICs”) to qualify for grants to provide operational assistance to smaller enterprises located in low-income geographic areas.

To the extent that 5 U.S.C. section 553 applies to this action, it is exempt from notice and comment because it constitutes a rule of procedure under 5 U.S.C. section 553(b)(A). Alternatively, the Agency's implementation of this rule without opportunity for public comment, effective immediately upon publication today in the Federal Register, is based on the good cause exceptions in 5 U.S.C. section 553(b)(B) and 553(d)(3), in that seeking public comment is impracticable, unnecessary and contrary to the public interest. The temporary 60-day delay in effective date is necessary to give Agency officials the opportunity for further review and consideration of new regulations, consistent with the Assistant to the President's memorandum of January 20, 2001. Given the imminence of the effective date, seeking prior public comment on this temporary delay would have been impractical, as well as contrary to the public interest in the orderly promulgation and implementation of regulations.

DATES: The effective date of the New Markets Venture Capital Program published in the Federal Register on January 22, 2001, at 66 FR 7218, is delayed for 60 days, from February 21, 2001, to a new effective date of April 23, 2001.

FOR FURTHER INFORMATION CONTACT: Austin Belton, Director, Office of New Markets Venture Capital, Small Business Administration, 409 Third Street, SW, Washington, DC 20416, (202) 205-6510.

John D. Whitmore,
Acting Administrator.

[FR Doc. 01-4171 Filed 2-16-01; 8:45 am]

BILLING CODE 8025-01-P